COMMISSION ON CIVIL RIGHTS

Agenda and Notice of Public Meeting of the New Jersey Advisory Committee

Notice is hereby given, pursuant to the provisions of the rules and regulations of the U.S. Commission on Civil Rights, that a planning meeting with briefing of New Jersey Advisory Committee will convene at 10 a.m. and adjourn at 4 p.m. on Tuesday, December 2, 2003, at the New Jersey State House, Room 4, 125 W. State Street, Trenton, NJ 08625. The purpose of the planning meeting with briefing is to (1) review the status of current activities, (2) plan new projects, and (3) receive briefings from invited speakers on civil rights developments in the state.

Persons desiring additional information, or planning a presentation to the Committee, should contact Edward Darden of the Eastern Regional Office, (202) 376-7533 (TDD (202) 376-8116). Hearing-impaired persons who will attend the meeting and require the services of a sign language interpreter should contact the Regional Office at least ten (10) working days before the scheduled date of the meeting.

The meeting will be conducted pursuant to the provisions of the rules and regulations of the Commission.

Dated at Washington, DC, November 17, 2003.
Ivy L. Davis,
Chief, Regional Program Coordination Unit.

[FR Doc. 03-29439 Filed 11-24-03; 8:45 am]

BILLING CODE 6335-01-P